DEPARTMENT OF ENERGY

[OE Docket No. PP-305]

Notice of Intent To Prepare an Environmental Assessment and To Conduct Public Scoping Meetings and Notice of Floodplain and Wetlands Involvement; Montana Alberta Tie, Ltd.

AGENCY: Department of Energy (DOE).

ACTION: Notice of intent to prepare an environmental assessment and to conduct public scoping meetings.

SUMMARY: The Department of Energy (DOE) announces its intention to prepare an environmental assessment (EA) and to conduct public scoping meetings on an application for a Presidential permit to construct a new international transmission line that crosses the U.S.-Canada international border in northwest Montana. The EA will be prepared in compliance with the National Environmental Policy Act (NEPA) and applicable regulations, including DOE NEPA implementing regulations at 10 CFR part 1021.

Montana Alberta Tie, Ltd., (MATL) has applied to DOE's Office of Electricity Delivery and Energy Reliability (OE) for a Presidential permit to construct a 230,000-volt (230-kV) electric transmission line across the U.S. border with Canada, and to the State of Montana Department of Environmental Quality (DEQ) for a Linear Facilities construction permit. The proposed transmission line would originate at a new substation to be constructed northeast of Lethbridge, Alberta, Canada, cross the U.S.-Canada international border, and terminate north of Great Falls, Montana, at an existing 230-kV substation owned by NorthWestern Energy (NWE). The total length of the proposed transmission line would be 203 miles, with approximately 126 miles constructed inside the U.S. DOE and the State of Montana have decided to cooperate on the preparation of an EA that would be used for their respective planning and decisionmaking processes.

With this Notice of Intent, DOE and the Montana DEQ invite public participation in the EA scoping process and solicit pubic comments for consideration in establishing the scope and content of the EA. Because the proposed project may involve an action in a floodplain or wetland, the EA will include a floodplain and wetlands assessment and floodplain statement of findings in accordance with DOE regulations for compliance with floodplain and wetlands environmental review requirements (10 CFR part 1022). The Montana DEQ must issue a certification pursuant to section 401 of the Federal Clean Water Act that any project-related activities will comply with water quality standards and issue permits for any discharges of pollutants to State waters.

DATES: DOE and the Montana DEQ invite interested agencies, organizations, and members of the public to submit comments or suggestions to assist in identifying significant environmental issues and in determining the appropriate scope of the EA. The public scoping period starts with the publication of this Notice in the Federal Register and will continue until January 3, 2006. In addition, DEQ will publish a notice on its Web site, in a press release, and also in Montana newspapers. Written and oral comments will be given equal weight, and DOE and DEQ will consider all comments received or postmarked by January 3, 2006 in defining the scope of this EA. Comments received or postmarked after that date will be considered to the extent practicable.

Dates, times and locations for the public scoping meetings are:

1. December 5, 2005, 3 p.m. to 5 p.m. and from 6 p.m. to 9 p.m., Norley Hall, 208 N. Virginia Street, Conrad, Montana.

2. December 6, 3 p.m. to 5 p.m. and from 6 p.m. to 9 p.m., Missouri Room, Great Falls Civic Center, 2 Park Drive South, Great Falls, Montana.

3. December 7, 3 p.m. to 5 p.m. and from 6 p.m. to 9 p.m., 917 East Railroad Street, Cut Bank, Montana.

ADDRESSES: Written comments or suggestions on the scope of the EA should be addressed to: Mrs. Ellen Russell, Office of Electricity Delivery and Energy Reliability (OE-20), U.S. Department of Energy, 1000 Independence Avenue, SW., Washington, DC 20585-0350; phone 202-586-9624, facsimile: 202-586-5860, or by electronic mail at Ellen.Russell@hq.doe.gov. Comments should also be sent to Mr. Tom Ring, Facility Siting Program, Montana Department of Environmental Quality, P.O. Box 200901, Helena, MT 59620-0901, phone 406-444-6785, facsimile 406-444-1499, or by electronic mail at tring@mt.gov.

FOR FURTHER INFORMATION CONTACT: For information on the proposed project or to receive a copy of the Pre-Approval EA when it is issued, contact Mrs. Russell or Tom Ring at the addresses listed in the ADDRESSES section of this notice. The MATL Presidential permit application, including associated maps and drawings, can be downloaded in its entirety from the DOE program Web site (http://www.FE.DOE.GOV; choose “Electricity Regulation,” then “Pending Procedures”). The application before the Montana DEQ is available from DEQ's Web site at http://www.deq.state.mt.us/MFS/MATL/MFSAintroduction.pdf.

SUPPLEMENTARY INFORMATION:

Background and Need for Agency Action

DOE Presidential Permit

Executive Order 10485, as amended by Executive Order 12038, requires that a Presidential permit be issued by DOE before electric transmission facilities may be constructed, operated, maintained, or connected at the U.S. international border. The Executive Order provides that a Presidential permit may be issued after a finding that the proposed project is consistent with the public interest and after favorable recommendations from the U.S. Departments of State and Defense. In determining consistency with the public interest, DOE considers the environmental impacts of the proposed project under NEPA, determines the project's impact on electric reliability (including whether the proposed project would adversely affect the operation of the U.S. electric power supply system under normal and contingency conditions), and any other factors that DOE may also consider relevant to the public interest. The regulations implementing the Executive Order have been codified at 10 CFR 205.320—205.329. Issuance of a Presidential permits indicates that there is no Federal objection to the project, but does not mandate that the project be completed.

Montana Department of Environmental Quality

The Montana Major Facility Siting Act requires that a Certificate of Compliance (Certificate) be issued by DEQ prior to construction of a covered 230-kV transmission line more than 10 miles in length. A Certificate may be issued after DEQ finds and determines the basis of the need for the facility, the nature of the potential environmental impact, that the facility minimizes adverse environmental impact, and considers the state of available technology and the nature and economics of the various alternatives. Additional findings, for cases involving an electric, gas, or liquid transmission line or aqueduct are: (i) What part, if any, of the line or aqueduct will be located underground; (ii) is the facility consistent with regional plans for expansion of the appropriate grid of the utility systems serving the State and interconnected utility systems; (iii) will the facility serve the interests of utility system economy and reliability; (iv) does the location of the facility as proposed conform to applicable State and local laws and regulations (except that DEQ may refuse to apply any local law or regulation if it finds that, as applied to the proposed facility, the law or regulation is unreasonably restrictive in view of the existing technology, factors of cost or economics, the needs of consumers, whether located inside or outside the directly affected government subdivisions); (v) that the facility will serve the public interest, convenience, and necessity; (vi) that the Department or board has issued any necessary air or water quality decision, opinion, order, certificate, or permit; and (vii) that the use of public lands for location of the facility was evaluated and public lands were selected whenever their use is as economically practicable as the use of private lands. If a Certificate is issued, the transmission line would have to be constructed within 10 years.

Proposed Actions and Alternatives

The proposed DOE action is to issue a Presidential permit to MATL and the proposed DEQ action is to issue MATL a Certificate of Compliance and any other required water and air quality permits. The DOE and MATL actions are for construction of a single 230-transmission line that would cross the U.S. international border directly north of Cut Bank, Montana, (west of Sweetgrass) and extend approximately 125 miles into the U.S., terminating north of Great Falls, Montana, at an existing 230-kV substation owned by NWE. Between the U.S.-Canada border and Great Falls, the transmission line would also connect to an existing substation owned by Glacier Electric Cooperative in Cut Bank, Montana. A phase-shifting transformer would be installed at the substation in Lethbridge, Alberta, to control power flows between the two regions.

The MATL transmission line project would connect the Alberta Interconnected Electrical System and NWE's transmission system. MATL has indicated that it intends to operate the proposed facilities as a merchant transmission line and make it available for third-party use. In addition, MATL asserts that the proposed transmission facilities would enable the development of new wind electric generation projects because the proposed line route passes through an area that has the potential for wind generation development.

Three alternative corridors for constructing the proposed transmission line inside the U.S. have been identified: Route A, the MATL preferred corridor; Route B; and Route C. All three corridors cross the U.S.-Canada border approximately 26 miles north of Cut Bank, Montana, and extend south over the same route until approximately 2 miles north of Cut Bank where they converge to skirt the community to the east and south. At the Glacier Electric Cooperative substation located approximately 1 mile west of Cut Bank, the alternatives diverge traveling over roughly parallel routes east of the Blackfoot Indian Reservation in a southeastward direction. Routes A and B roughly parallel NWE's existing 115-kV line along its entire distance to its tie-in to NWE's 230-kV substation north of Great Falls. Route C traverses to the east away from Routes A and B at a location approximately 9 miles southeast of Brady, Montana, and approximately 5 miles north of the Teton River. Route C jogs directly east and south to take advantage of existing north-south and east-west state highway and county road rights-of-way enroute to NWE's 230-kV substation. Major river crossings include those of the Marias approximately 10 miles south of Cut Bank, and the Teton, approximately 14 miles south of Brady, Montana.

In addition to transmission line routes within the above proposed corridors, the EA will consider the environmental impacts of the “No Action” alternative. Under the No Action alternative DOE would not issue a Presidential permit and DEQ would not issue a Certificate of Compliance. DOE and DEQ will also consider any additional reasonable alternatives that result from comments received during the scoping period.

However, not issuing the Presidential permit or Certificate would not necessarily imply maintenance of the status quo. MATL indicated its proposed action is to construct a merchant transmission line to improve the reliability of both the Alberta and Montana power transmission grids and to enable the development of new power generation projects in Alberta and Montana. MATL asserts that the proposed transmission facilities would enable the development of new wind electric generation projects because the proposed line route passes through an area that has tremendous wind generation potential. If the Presidential permit and Certificate are not issued and this proposed project is not built, other transmission facilities may be constructed in support of future wind development. The No Action Alternative will address the environmental impacts that are reasonably foreseeable to occur if the Presidential permit and Certificate are not issued.

Identification of Environmental Issues

In the EA, DOE and DEQ will examine public health and safety effects and environmental impacts in the U.S. from the proposed transmission facilities. The EA will be prepared in accordance with the requirements of the Council on Environmental Quality NEPA Implementing Regulation (40 CFR parts 1500-1508) and DOE's NEPA Implementing Procedures (10 CFR part 1021). Because the project involves action in a floodplain, the EA will include a floodplain assessment and floodplain statement of findings in accordance with DOE regulations for compliance with floodplain and wetlands environmental review (10 CFR part 1022). Tribal governments and Federal, State and local agencies with special expertise or jurisdiction over the proposed project are being invited to become cooperating agencies on the EA.

This notice is to inform agencies and the public of the proposed project and to solicit comments and suggestions for consideration in the preparation of the EA. To help the public frame its comments, this notice contains a preliminary list of potential environmental issues in the U.S. that DOE and MATL have tentatively identified for analysis. These issues include:

1. Impact from development of wind generation resources;

2. Impacts on farming;

3. Impacts on protected, threatened, endangered, or sensitive species of animals or plants, or their critical habitats;

4. Impacts on floodplains and wetlands;

5. Impacts on cultural or historic resources;

6. Impacts on human health and safety;

7. Impacts on air, soil, and water;

8. Visual impacts; and

9. Socioeconomic impacts, and disproportionately high and adverse impacts on minority and low-income populations.

Scoping Process

Interested parties are invited to participate in the scoping process both to refine the environmental issues to be analyzed and to identify the reasonable range of alternatives. Both oral and written comments will be considered and given equal weight by DOE and DEQ.

Public scoping meetings will be held at the locations, dates, and times indicated above under the DATES and ADDRESSES sections. The scoping meetings will be structured as informal open houses. They will provide interested parties the opportunity to view proposed project exhibits, ask questions, and make comments. DOE, DEQ, and any cooperating agency representatives will be available to answer questions and provide additional information to attendees.

DOE and DEQ invite those entities with jurisdiction by law or special expertise with respect to environmental issues to be cooperating agencies on the EA, as defined at 40 CFR 1501.6. Cooperating agencies have certain responsibilities to support the NEPA process, as specified at 40 CFR 1501.6(b).

Persons submitting comments during the scoping process will receive copies of the Pre-Approval EA. Persons who do not wish to submit comments or suggestions at this time but who would like to receive a copy of the document for review and comment when it is issued should notify Mrs. Ellen Russell and also Tom Ring at the addresses provided above.

Pre-Approval EA Schedule and Availability

The Pre-Approval EA is scheduled to be issued in the spring, 2006, at which time its availability will be announced in the Federal Register and public comments again will be solicited.

Issued in Washington, DC, on November 16, 2005.
Anthony J. Como,
Director, Permitting and Siting, Office of Electricity Delivery and Energy Reliability.

[FR Doc. 05-23002 Filed 11-17-05; 8:45 am]

BILLING CODE 6450-01-P